SECURITIES AND EXCHANGE COMMISSION

[Release No. IC—25502]

Notice of Applications for Deregistration Under Section 8(f) of the Investment Company Act of 1940

March 29, 2002.

The following is a notice of applications for deregistration under section 8(f) of the Investment Company Act of 1940 for the month of March, 2002. A copy of each application may be obtained for a fee at the SEC's Public Reference Branch, 450 Fifth St., NW, Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on April 23, 2002, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW, Washington, DC 20549-0609. For Further Information Contact: Diane L. Titus, at (202) 942-0564, SEC, Division of Investment Management, Office of Investment Company Regulation, 450 Fifth Street, NW, Washington, DC 20549-0506.

Amivest/NFB Funds Trust [File No. 811-9719]

Summary: Applicant seeks an order declaring that it has ceased to be an investment company. Applicant has never made a public offering of its securities and does not propose to make a public offering or engage in business of any kind.

Filing Date: The application was filed on March 14, 2002.

Applicant's Address: 275 Broad Hollow Rd., Melville, NY 11747.

Firstar Funds, Inc. [File No. 811-5380]

Summary: Applicant seeks an order declaring that it has ceased to be an investment company. By September 26, 2001, each series of applicant had transferred its assets to a corresponding series of First American Funds, Inc., First American Investment Funds, Inc., or First American Strategy Funds, Inc., based on net asset value. Expenses of $3,936,000 incurred in connection with the reorganization were paid by U.S. Bancorp, the parent of applicant's investment adviser.

Filing Date: The application was filed on March 11, 2002.

Applicant's Address: 615 East Michigan St., PO Box 3011, Milwaukee, WI 53202-3011.

Merrill Lynch Utility Income Fund, Inc. [File No. 811-7071]

Summary: Applicant seeks an order declaring that it has ceased to be an investment company. On August 21, 2000, applicant transferred its assets to Merrill Lynch Utilities & Telecommunications Fund, Inc. (formerly, Merrill Lynch Global Utility Fund, Inc.), based on net asset value. Expenses of approximately $169,315 incurred in connection with the reorganization were paid by applicant and Merrill Lynch Investment Managers, L.P., applicant's investment adviser.

Filing Date: The application was filed on March 1, 2002.

Applicant's Address: 800 Scudders Mill Rd., Plainsboro, NJ 08536.

The Rightime Fund, Inc. [File No. 811-4231]

Summary: Applicant seeks an order declaring that it has ceased to be an investment company. On December 7, 2001, applicant transferred its assets to Federated Equity Funds—Federated Capital Appreciation Fund, based on net asset value. Expenses of approximately $192,575 incurred in connection with the reorganization were paid by Rightime Econometrics Inc., applicant's investment adviser, Lincoln Investment Planning, Inc., applicant's principal underwriter, and Federated Investors, Inc., the service provider for the acquiring fund.

Filing Dates: The application was filed on December 21, 2001, and amended on March 13, 2002.

Applicant's Address: 218 Glenside Ave., Wyncote, PA 19095-1594.

Van Ness Funds [File No. 811-9741]

Summary: Applicant seeks an order declaring that it has ceased to be an investment company. On January 31, 2002, applicant made a liquidating distribution to its shareholders based on net asset value. Expenses of approximately $47,000 incurred in connection with the liquidation were paid by Whatifi Asset Management, Inc., applicant's investment adviser.

Filing Date: The application was filed on March 1, 2002.

Applicant's Address: c/o Whatifi Financial, Inc., 100 Unicorn Park Drive, Woburn, MA 01801.

Dresdner RCM Global Strategic Income Fund, Inc. [File No. 811-4800]

Summary: Applicant seeks an order declaring that it has ceased to be an investment company. On January 18, 2002, applicant transferred its assets to RCM Strategic Global Government Fund, Inc., based on net asset value. Expenses of $938,506 incurred in connection with the reorganization were paid by applicant and the acquiring fund.

Filing Date: The application was filed on February 28, 2002.

Applicant's Address: c/o Dresdner RCM Global Investors LLC, Four Embarcadero Center, San Francisco, CA 94111.

DG Investor Series [File No. 811-6607]

Summary: Applicant seeks an order declaring that it has ceased to be an investment company. On December 11, 1998, applicant transferred its assets to ISG Funds, based on net asset value. Expenses incurred in connection with the reorganization were paid by First American National Bank, investment adviser to the acquiring fund.

Filing Dates: The application was filed on December 27, 2001, and amended on March 11, 2002.

Applicant's Address: Federated Investors Tower, 5800 Corporate Dr., Pittsburgh, PA 15237-7010.

Nomura Pacific Basin Fund, Inc. [File No. 811-4269]

Summary: Applicant seeks an order declaring that it has ceased to be an investment company. On January 24, 2002, applicant made a liquidating distribution to its shareholders based on net asset value. Applicant incurred no expenses in connection with the liquidation.

Filing Dates: The application was filed on January 24, 2002, and amended on March 7, 2002.

Applicant's Address: c/o Nomura Asset Management U.S.A. Inc., 180 Maiden Ln., 26th Floor, New York, NY 10038.

Cardinal GNMA Trust, First Series and Subsequent Series [File No. 811-3948]

Summary: Applicant, a unit investment trust, seeks an order declaring that it has ceased to be an investment company. By January 31, 2000, all of applicant's assets had been distributed to its shareholders based on net asset value. Applicant incurred no expenses in connection with the liquidation.

Filing Dates: The application was filed on January 4, 2002, and amended on March 8, 2002.

Applicant's Address: 34 Fountain Square Plaza, Cincinnati, OH 45263.

Universal Capital Investment Trust [File No. 811-6212]

Summary: Applicant seeks an order declaring that it has ceased to be an investment company. On February 1, 2002, applicant transferred its assets to Oak Ridge Funds, Inc., based on net asset value. All expenses incurred in connection with the reorganization were paid by Optimum Investment Advisors, L.P., applicant's investment adviser.

Filing Date: The application was filed on February 12, 2002.

Applicant's Address: 100 South Wacker Dr., Suite 2100, Chicago, IL 60606.

CDC MPT & Funds [File No. 811-9083]

Summary: Applicant seeks an order declaring that it has ceased to be an investment company. By December 17, 2001, all of applicant's shareholders had voluntarily redeemed their shares at net asset value. Expenses of $15,000 incurred in connection with the liquidation were paid by CDC Investment Management Corporation, applicant's investment adviser, or its affiliates.

Filing Dates: The application was filed on January 23, 2002, and amended on March 4, 2002.

Applicant's Address: 1251 Avenue of the Americas, 16th Floor, New York, NY 10020.

Nations LifeGoal Funds, Inc. [File No. 811-7745]

Summary: Applicant seeks an order declaring that it has ceased to be an investment company. On June 8, 2001, applicant transferred its assets to corresponding series of Nations Funds Trust based on net asset value. Expenses of $152,386 incurred in connection with the reorganization were paid by Banc of America Advisors, LLC, applicant's investment adviser.

Filing Dates: The application was filed on February 8, 2002, and amended on February 26, 2002.

Applicant's Address: 111 Center Street, Suite 300, Little Rock, AR 72201.

FT Defined Portfolios LLC [File No. 811-10015]; First Defined Sector Fund [File No. 811-10017]

Summary: Each applicant seeks an order declaring that it has ceased to be an investment company. On November 30, 2001, each applicant made a liquidating distribution to its shareholders based on net asset value. Applicants incurred no expenses in connection with the liquidations.

Filing Date: The applications were filed on March 1, 2002. FT Defined Portfolios LLC filed an amended application on March 15, 2002.

Applicants' Address: 1001 Warrenville Road, Suite 300, Lisle, IL 60532.

Global Income Strategies Fund, Inc. (formerly Global High Yield Fund, Inc.) [File No. 811-8757]

Summary: Applicant seeks an order declaring that it has ceased to be an investment company. Applicant has never made a public offering of its securities and does not propose to make a public offering or engage in business of any kind.

Filing Dates: The application was filed on February 27, 2002, and amended on March 20, 2002.

Applicant's Address: c/o Fund Asset Management, L.P., P.O. Box 9011, Princeton, NJ 08543-9011.

Merrill Lynch Real Estate Fund, Inc. [File No. 811-8389]

Summary: Applicant seeks an order declaring that it has ceased to be an investment company. On April 3, 2001, applicant made a liquidating distribution to its shareholders based on net asset value. Applicant has retained $35,236 to cover outstanding operating expenses. Applicant incurred no expenses in connection with the liquidation.

Filing Dates: The application was filed on October 9, 2001, and amended on March 8, 2002.

Applicant's Address: Merrill Lynch Investment Managers, L.P., 800 Scudders Mill Rd., Plainsboro, NJ 08536.

Mercantile Mutual Funds, Inc. [File No. 811-3567]

Summary: Applicant seeks an order declaring that it has ceased to be an investment company. By June 29, 2001, each of applicant's portfolios had transferred their assets to corresponding portfolios of Firstar Funds, Inc., based on net asset value. Expenses of $590,908 incurred in connection with the reorganization were paid by Firstar Investment Research & Management Company, LLC, applicant's investment adviser.

Filing Dates: The application was filed on January 16, 2002, and amended on February 20, 2002.

Applicant's Address: 615 East Michigan St., PO Box 3011, Milwaukee, WI 53202-3011.

T. Rowe Price Short-Term U.S. Government Fund, Inc. [File No. 811-6386]

Summary: Applicant seeks an order declaring that it has ceased to be an investment company. On October 31, 2000, applicant transferred its assets to T. Rowe Price Short-Term Bond Fund, Inc., based on net asset value. Expenses of $12,686 incurred in connection with the reorganization were paid by T. Rowe Price Associates, applicant's investment adviser.

Filing Date: The application was filed on February 22, 2002.

Applicant's Address: 100 E. Pratt St., Baltimore, MD 21202.

For the Commission, by the Division of Investment Management, pursuant to delegated authority.
Margaret H. McFarland,
Deputy Secretary.

[FR Doc. 02-8207 Filed 4-4-02; 8:45 am]

BILLING CODE 8010-01-P